DEPARTMENT OF ENERGY

Federal Energy Regulatory Commission

[Docket No. RP03-398-000]

Northern Natural Gas Company; Notice of Technical Conference

July 9, 2003.

The Commission, in its order issued on May 30, 2003,¹ directed that a technical conference be held to address several of Northern's proposed revisions to its terms and conditions of services.

Take notice that a technical conference will be held on Tuesday, July 29, 2003 and Wednesday, July 30, 2003 at 10 am, in a room to be designated at the offices of the Federal Energy Regulatory Commission, 888 First Street NE., Washington, DC 20426.

All interested parties and staff are permitted to attend.

Magalie R. Salas,
Secretary.

¹ Northern Natural Gas Company, 103 FERC § 61,266 (2003).

[FR Doc. 03-17885 Filed 7-15-03; 8:45 am]

BILLING CODE 6717-01-P